NATIONAL SCIENCE FOUNDATION

Advisory Committee for Small Business Industrial Innovation; Notice of Meeting

In accordance with the Federal Advisory Committee Act (Pub. L. 92-463, as amended) the National Science Foundation announces the following meetings:

Name: Advisory Committee for Small Business Industrial Innovation (61).

Date/Time: April 3-5, 2001; 8:30 a.m.-5 p.m.

Place: National Science Foundation, 4201 Wilson Blvd., Arlington, VA.

Type of Meeting: Closed.

Contact Person: Joseph Hennessey, National Science Foundation, 4201 Wilson Boulevard, VA 22230. Telephone (703) 292-7069.

Purpose of Meeting: To provide advice and recommendations concerning proposals submitted to NSF for financial support.

Agenda: To review and evaluate proposals submitted to the Small Business Innovation Research (SBIR) and Small Business Technology Transfer (STTR) Programs as part of the selection process for awards.

Reason for Closing: The proposals being reviewed include information of a proprietary or confidential nature, including technical information; financial data, such as salaries, and personal information concerning individuals associated with the proposals. These matters are exempt under 5 U.S.C. 552b(c), (4) and (6) of the Government in the Sunshine Act.

Dated: March 6, 2001.
Susanne Bolton,
Committee Management Officer.

[FR Doc. 01-5873 Filed 3-8-01; 8:45 am]

BILLING CODE 7555-01-M